FEDERAL COMMUNICATIONS COMMISSION

47 CFR Part 80

[PR Docket No. 92-257; FCC 01-358]

Maritime Communications

AGENCY: Federal Communications Commission.

ACTION: Proposed rule.

SUMMARY: In this document, the Commission proposes to amend the rules governing very high frequency public coast (VPC) stations. The Commission proposes, among other things, to allow the U.S. Coast Guard and VPC licensees the additional flexibility to choose non-offset, as well as offset, channel pairs when negotiating an agreement regarding the specification of two narrowband channel pairs that will be used by the U.S. Coast Guard for its Ports and Waterways Safety System (PAWSS); to expand the types of emission masks and designators permissible under the Commission's Rules in order to allow VPC licensees to provide a full range of data services; to allow public coast stations to maintain station documents via electronic means; and to limit the posting requirement for VPC geographic area licensees to a document identifying the licensee and a representative that may be contacted to answer any questions regarding the operation of a particular station transmitter.

DATES: Comments are due on or before April 5, 2002, Reply Comment are due on or before May 6, 2002.

ADDRESSES: Parties who choose to file comments by paper must file an original and four copies to the Commission's Secretary, Magalie Roman Salas, Office of the Secretary, Federal Communications Commission, 445 12th St., SW., Room TW-A325, Washington, DC 20554. Comments may also be filed using the Commission's Electronic Filing System, which can be accessed via the Internet at www.fcc.gov/e-file/ecfs.html.

FOR FURTHER INFORMATION CONTACT: Keith Fickner, Policy and Rules Branch, Public Safety and Private Wireless Division, Wireless Telecommunications Bureau at (202) 418-0680.

SUPPLEMENTARY INFORMATION: The Commission's Fourth Further Notice of Proposed Rule Making, PR Docket No. 92-257, FCC 01-358, adopted December 11, 2001, and released on December 28, 2001. The full text of this Fourth Further Notice of Proposed Rule Making is available for inspection and copying during normal business hours in the FCC Reference Center, Room CY-A257, 445 12th Street, SW., Washington, DC. The complete text may be purchased from the Commission's copy contractor, Qualex International, Inc., 445 12th Street, SW., Room CY-B402 Washington, DC 20554. The full text may also be downloaded at: http://www.fcc.gov/Wireless/Orders/2000/fcc01358.txt. Alternative formats are available to persons with disabilities by contacting Martha Contee at (202) 418-0260 or TTY (202) 418-2555.

Summary of the Fourth Further Notice of Proposed Rule Making

The Commission concludes that it should not propose to amend Part 80 by adopting from Part 90 the occupied bandwidth, emission mask and related regulations that govern the operation of stations that employ 12.5 kHz narrowband channels. Its intent when it adopted the rule permitting offset operations without also adopting technical rules for narrowband operations was to maximize licensee flexibility by leaving such matters to the licensee's discretion, so long as emissions are attenuated at the edge of the licensee's contiguous 25 kHz channels.

The Commission tentatively concludes that it should not propose to reallocate to VPC stations nine channel pairs in the 156.0375-156.2375 MHz band and the 160.6375-160.8375 MHz band without first assessing the demand for this spectrum from Part 90 public safety eligibles.

The Commission proposes that the channel pairs for the Ports and Waterways Safety System. That are negotiated between the Coast Guard and the VPC licensee may be either offset channel pairs on non-offset channel pairs. The Commission believes that the parties should be able to specify non-offset channel pairs in addition to the currently permitted offset channel pairs, if it is mutually agreeable.

The Commission proposes to expand the permissible Part 80 emission masks and designators. It believes that expanding the data emissions permissible under Part 80 is in the public interest because such an approach would allow VPC licensees to provide a full range of data services.

The Commission proposes to allow station documents to be maintained electronically at a licensee's primary office or made available to the Commission via secured access to the licensee's Internet web site. It believes that electronic record keeping, particularly when done by Digital Selective Calling (DSC)-compatible systems, minimizes the risk of inadvertent data entry error. Furthermore, it believes that provision of such information via secured access to the licensee's web page would provide the Commission with quick and easy access.

The Commission proposes to limit the posting requirement for VPC Geographic area licensees to be satisfied by a document identifying the licensee, as a representative of the licensee. Who may be contacted to answer any question regarding the operation of a particular station transmitter. It believes that relaxing the posting requirement will reduce the regulatory burden on VPC licensees while still ensuring that the vital information inherent in the posting requirement (i.e., location of the license and telephone number of the licensee's representative) will still be maintained at each station.

Initial Regulatory Flexibility Analysis

As required by the Regulatory Flexibility Act (RFA), see 5 U.S.C. 603 (the RFA, see 5 U.S.C. 601 et. seq., has been amended by the Contract With America Advancement Act of 1996, Public Law 104-121, 110 Stat. 847 (1996) (CWAAA) (Title II of the CWAAA is the Small Business Regulatory Enforcement Fairness Act of 1996 (SBREFA))), the Commission has prepared this present Initial Regulatory Flexibility Analysis (IRFA) of the possible significant economic impact on small entities of the policies and rules proposed in the Fourth Further Notice of Proposed Rule Making. Written public comments are requested on this IRFA. Comments must be identified as responses to the IRFA and must be filed by the deadlines for comments on the Fourth Further Notice of Proposed Rule Making provided in paragraph 30 of the item. The Commission will send a copy of the Fourth Further Notice of Proposed Rule Making, including this IRFA, to the Chief Counsel for Advocacy of the Small Business Administration. See 5 U.S.C. 603(a). In addition, the Fourth Further Notice of Proposed Rule Making and IRFA (or summaries thereof) will be published in the Federal Register. See id.

A. Need for, and Objectives of, the Proposed Rules

Our objective is to determine whether it is in the public interest, convenience, and necessity to provide VHF public coast stations with additional flexibility and to improve the stations' efficiency as well. These proposals include (1) allowing the Coast Guard and VHF public coast licensees to have the additional flexibility to choose non-offset, as well as offset, channel pairs when negotiating an agreement regarding the specification of two narrowband channel pairs that will be used by the Coast Guard for its Ports and Waterways Safety System, (2) establishing emission masks and designators that will accommodate the full range of data services that may be provided by VHF public coast licensees, (3) extending tariff forbearance to public coast licensees, and (4) allowing public coast stations to maintain station documents via electronic means.

B. Legal Basis

Authority for issuance of this item is contained in sections 4(i), 4(j), 7(a), 302, 303(b), 303(f), 303(g), 303(r), 307(e), 332(a), and 332(c) of the Communications Act of 1934, as amended, 47 U.S.C. 154(i), 154(j), 157(a), 302, 303(b), 303(f), 303(g), 303(r), 307(e), 332(a), and 332(c).

C. Description and Estimate of the Number of Small Entities to Which the Proposed Rules Will Apply

The RFA directs agencies to provide a description of and, where feasible, an estimate of the number of small entities that may be affected by the proposed rules, if adopted. 5 U.S.C. 603(b)(3). The RFA generally defines the term “small entity” as having the same meaning as the terms “small business,” “small organization,” and “small governmental jurisdiction.” 5 U.S.C. 601(6). In addition, the term “small business” has the same meaning as the term “small business concern” under the Small Business Act. 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3). A small business concern is one which: (1) Is independently owned and operated; (2) is not dominant in its field of operation; and (3) satisfies any additional criteria established by the Small Business Administration (SBA). Small Business Act, 15 U.S.C. 632 (1996).

The proposed rules would affect licensees using AMTS and high seas public coast spectrum. In the Third Report and Order 63 FR 40059, July 27, 1998, in this proceeding, the Commission defined the term “small entity” specifically applicable to public coast station licensees as any entity employing less than 1,500 persons, based on the definition under the Small Business Administration rules applicable to radiotelephone service providers. See Amendment of the Commission's Rules Concerning Maritime Communications, Third Report and Order and Memorandum Opinion and Order 65 FR 76966, December 8, 2000, 13 FCC Rcd 19853, 19893 (1998) (citing 13 CFR 121.201, Standard Industrial Classification (SIC) Code 4812, now NAICS Code 513322). Since the size data provided by the Small Business Administration does not enable us to make a meaningful estimate of the number of public coast station licensees that are small businesses, we have used the 1992 Census of Transportation, Communications, and Utilities, conducted by the Bureau of the Census, which is the most recent information available. This document shows that 12 radiotelephone firms out of a total of 1,178 such firms which operated in 1992 had 1,000 or more employees. Thus, we estimate that no fewer than 1,166 small entities will be affected. Any entity that is capable of providing radiotelephone service is eligible to hold a public coast license. Therefore, we seek comment on the number of small entities that use VHF public coast spectrum and the number of small entities that are likely to apply for licenses under the various proposals described herein.

D. Description of Projected Reporting, Recordkeeping, and Other Compliance Requirements

This Fourth Further Notice of Proposed Rule Making neither proposes nor anticipates any additional reporting, recordkeeping or other compliance measures.

E. Significant Alternatives Minimizing the Economic Impact on Small Entities

The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

The Fourth Further Notice of Proposed Rule Making solicits comment on a variety of alternatives set forth herein. For example, the Commission seeks comment on its proposal to relax for all entities, including small entities, the current license posting requirement in order to reduce the regulatory burden. The Commission also seeks to reduce the regulatory burden of all entities, including small entities, by permitting the maintenance of records via electronic means. It also seeks comment on the proposal of Maritel, Inc. that the Commission no longer require geographic licensees, including those that are small entities, to provide station identification. Any significant alternative presented in the comments will be considered.

F. Federal Rules That May Duplicate, Overlap, or Conflict With the Proposed Rules

None.

List of Subjects 47 CFR Part 80

Communications equipment, radio.

Federal Communications Commission.
William F. Caton,
Deputy Secretary.

Rule Changes

For the reasons discussed in the preamble, the Federal Communications Commission proposes to amend 47 CFR part 80 as follows:

PART 80—STATIONS IN THE MARITIME SERVICES

1.The authority citation for Part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

2. Section 80.95 is amended by revising paragraph (a) introductory text to read as follows:

§ 80.95 Message charges.

(a) Except as specified in § 20.15(c) of this chapter with respect to commercial mobile radio service providers, charges must not be made for service of:

* * * * *

3. Section 80.207 is amended by revising paragraph (d) to read as follows:

§ 80.207 Classes of emission.

* * * * *

(d) The authorized classes of emission are as follows:

Types of stations | Classes of emission
Ship Stations ¹
Radiotelegraphy:
100-160 kHz | A1A
405-525 kHz | A1A, J2A
1605-27500 kHz:
Manual | A1A, J2A
DSC | F1B, J2B
NB-DP ¹⁴ | F1B, J2B
Facsimile | F1C, F3C, J2C, J3C
156-162 MHz ² | F1B, F2B, F2C, F3C, F1D, F2D
DSC | G2B
216-220 MHz ³ | F1B, F2B, F2C, F3C
1626.5-1646.5 MHz | (⁴)
Radiotelephony:
1605-27500 kHz ⁵ | H3E, J3E, R3E
27.5-470 MHz ⁶ | G3D, G3E
1626.5-1646.5 MHz | (⁴)
Radiodetermination:
285-325 kHz ⁷ | A1A, A2A A3N, H3N, J3N, NON
405-525 kHz (Direction Finding) ⁸
154-459 MHz¹² | A1D, A2D, F1D, F2D, G1D, G2D
2.4-9.5 GHz | PON
14.00-14.05 GHz | F3N
Land Stations ¹
Radiotelegraphy:
100-160 kHz | A1A
405-525 kHz | A1A, J2A
1605-2850 kHz:
Manual | A1A, J2A
Facsimile | F1C, F3C, J2C, J3C
Alaska—Fixed | A1A, J2A
4000-27500 kHz:
Manual | A1A, J2A
DSC | F1B, J2B
NB-DP ¹⁴ | F1B, J2B
Facsimile | F1C, F3C, J2C, J3C
Alaska—Fixed | A1A, A2A, F1B, F2B
72-76 MHz | A1A, A2A, F1B, F2B
156-162 MHz ² ¹⁵ | F1B, F2B, F2C, F3C, F1D, F2D
DSC | G2B
216-220 MHz ³ | F1B, F2B, F2C, F3C
Radiotelephony:
1605-27500 kHz | H3E, J3E, R3E
72-76 MHz | A3E, F3E, G3E
156-470 MHz | G3E
Radiodetermination:
2.4-9.6 GHz | PON
Distress, Urgency and Safety ⁸ ⁹
500 kHz¹⁰ | A2A and A2B or H2A and H2B
2182 kHz¹⁰ ¹¹ | A2B, A3B, H2B, H3E, J2B, and J3E A2A, H2A A3E, A3X, N0N
8364 kHz | A3E
121.500 MHz | G3E, G3N
123.100 MHz | A3E, A3X, N0N
156.750 and 156.800 MHz¹³ | GID
243.000 MHz
406.025 MHz
¹ Excludes distress, EPIRBs, survival craft, and automatic link establishment.
² Frequencies used for public correspondence and in Alaska 156.425 MHz. See §§ 80.371(c), 80.373(f) and 80.385(b). Transmitters approved before January 1, 1994, for G3E emissions will be authorized indefinitely for F2C, F3C, F1D and F2D emissions. Transmitters approved on or after January 1, 1994, will be authorized for F2C, F3C, F1D or F2D emissions only if they are approved specifically for each emission designator.
³ Frequencies used in the Automated Maritime Telecommunications System (AMTS). See § 80.385(b).
⁴ Types of emission are determined by the INMARSAT Organization.
⁵ Transmitters approved prior to December 31, 1969, for emission H3E, J3E, and R3E and an authorized bandwidth of 3.5 kHz may continue to be operated. These transmitters will not be authorized in new installations.
⁶ G3D emission must be used only by one-board stations for maneuvering or navigation.
⁷ Frequencies used for cable repair operations. See § 80.375(b).
⁸ For direction finding requirements see § 80.375.
⁹ Includes distress emissions used by ship, coast, EPIRB's and survival craft stations.
¹⁰ On 500 kHz and 2182 kHz A1B, A2B, H2B and J2B emissions indicate transmission of the auto alarm signals.
¹¹ Ships on domestic voyages must use J3E emission only.
¹² For frequencies 154.585 MHz, 159.480 MHz, 160.725 MHz, 160.785 MHz, 454.000 MHz and 459.000 MHz, authorized for offshore radiolocation and related telecommand operations.
¹³ Class C EPIRB stations may not be used after February 1, 1999.
¹⁴ NB-DP operations which are not in accordance with CCIR Recommendation 625 or 476 are permitted to utilize any modulation, so long as emissions are within the limits set forth in § 80.211(f).
¹⁵ If a station uses another type of digital emission, it must comply with the emission mask requirements of § 90.210 of this chapter.

4. Section 80.213 is amended by revising paragraph (d) to read as follows:

§ 80.213 Modulation requirements.

* * * * *

(d) Ship and coast station transmitters operating in the 156-162 MHz and 216-220 bands must be capable of proper operation with a frequency deviation that does not exceed +/−5 kHz when using any emission authorized by § 80.207.

* * * * *

5. Section 80.302 is amended by revising paragraph (a) to read as follows:

§ 80.302 Notice of discontinuance, reduction, or impairment of service involving a distress watch.

(a) When changes occur in the operation of a public coast station which include discontinuance, reduction, suspension, or relocation of a watch required to be maintained on 500 kHz, 2182 kHz, or 156.800 MHz, notification must be made by the licensee to the nearest district office of the U.S. Coast Guard as soon as practicable. The notification must include the estimated or known resumption time of the watch.

* * * * *

6. Section 80.371 is amended by revising paragraphs (c)(1)(ii) introductory text, (c)(1)(iii), and (c)(3) to read as follows:

§ 80.371 Public correspondence frequencies.

* * * * *

(c) * * *

(1) * * *

(ii) Service areas in the marine VHF 156-162 MHz band are VHF Public Coast Station Areas (VPCSAs). As listed in the table in this paragraph, VPCSAs are based on, and composed of one or more of, the U.S. Department of Commerce's 172 Economic Areas (EAs). See 60 FR 13114 (March 10, 1995). In addition, the Commission shall treat Guam and the Northern Mariana Islands, Puerto Rico and the United States Virgin Islands, American Samoa, and the Gulf of Mexico as EA-like areas, and has assigned them EA numbers 173-176, respectively. Maps of the EAs and VPCSAs are available for public inspection and copying at the FCC Public Reference Room, Room CY-A257, 445 12th Street, SW, Washington, DC 20554. Except as shown in the table, the frequency pairs listed in paragraph (c)(1)(i) of this section are available for assignment to a single licensee in each of the VPCSAs listed in the table in this paragraph. In addition to the listed EAs listed in the table in this paragraph, each VPCSA also includes the adjacent waters under the jurisdiction of the United States.

* * * * *

(iii) Subject to paragraph (c)(3) of this section, each licensee may also operate on 12.5 kHz offset frequencies in areas where the licensee is authorized on both frequencies adjacent to the offset frequency, and in areas where the licensee on the other side of the offset frequency consents to the licensee's use of the adjacent offset frequency. Coordination with Canada is required for offset operations under any circumstance in which operations on either adjoining 25 kHz channel would require such coordination. See § 80.57 of this part.

* * * * *

(3) VPCSA licensees may not operate on Channel 228B (162.0125 MHz), which is available for use in the Coast Guard's Ports and Waterways Safety System (PAWSS). In addition, within six months of the conclusion of the competitive bidding procedures to determine the licensees in each VPCSA, the U.S. Coast Guard shall submit to each licensee of VPCSAs 1-9 a plan specifying up to two channel pairs for use in the PAWSS. The final selection of the PAWSS channel pairs can be negotiated (if the VPCSA licensee objects to the Coast Guard proposal, it shall make a counterproposal within three months) and established by an agreement between the parties. All parties are required to negotiate in good faith. If no agreement is reached within one year of the date the Coast Guard submitted its plan, the Coast Guard may petition the Commission to select up to two channel 12.5 kHz narrowband pairs offset from the channels set forth in the table in paragraph (c)(1)(i) of this section for use in the PAWSS. The Wireless Telecommunications Bureau shall announce the selection of the PAWSS channel pairs by Public Notice.

* * * * *

7. Section 80.405 is amended by redesignating paragraph (c) as (c)(1) and adding new paragraph (c)(2) to read as follows:

§ 80.405 Station license.

* * * * *

(c) * * *

(2) Public coast stations authorized under this part must make available either a clearly legible copy of the authorization for each station at the principal control point of the station or an address or location where the current authorization may be found and a telephone number of that authorization's representative.

* * * * *

8. Section 80.409 is amended by revising paragraph (b)(2) and paragraph (c) introductory text to read as follows:

§ 80.409 Station logs.

* * * * *

(b) * * *

(2) Logs containing entries required by paragraph (c) of this section must be kept either at the principal control point of the station or electronically filed at the station licensee's primary office or available to the Commission via secured access to the licensee's Internet web site. Logs containing entries required by paragraphs (e) and (f) of this section must be kept at the principal radiotelephone operating location while the vessel is being navigated. All entries in their original form must be retained on board the vessel for at least 30 days from the date of entry. Additionally, logs required by paragraph (f) of this section must be retained on board the vessel for a period of 2 years from the date of the last inspection of the ship radio station.

* * * * *

(c) Public coast station logs. Public coast stations must maintain a log, whether by means of written or automatic logging or a combination thereof. The log must contain the following information:

* * * * *

9. Section 80.471 is revised to read as follows:

§ 80.471 Discontinuance or impairment of service.

Except as specified in § 20.15(b)(3) of this chapter with respect to commercial mobile radio service providers, a public coast station must not discontinue or impair service unless authorized to do so by the Commission.

[FR Doc. 02-2436 Filed 2-1-02; 8:45 am]

BILLING CODE 6712-01-P